DEPARTMENT OF COMMERCE

International Trade Administration

[A-122-838]

Notice of Amended Final Results of Antidumping Duty Administrative Review: Certain Softwood Lumber Products From Canada

AGENCY: Import Administration, International Trade Administration, Department of Commerce.

EFFECTIVE DATE: January 24, 2005.

FOR FURTHER INFORMATION CONTACT: Constance Handley or James Kemp, at (202) 482-0631 or (202) 482-5346, respectively; AD/CVD Operations, Office 1, Import Administration, International Trade Administration, U.S. Department of Commerce, 14th Street & Constitution Avenue, NW., Washington, DC 20230.

SUPPLEMENTARY INFORMATION: On December 13, 2004, the Department of Commerce (“the Department”) determined that certain softwood lumber products from Canada are being sold in the United States at less than fair value, as provided in section 751(a) of the Tariff Act of 1930, as amended (“the Act”). See Notice of Final Results of Antidumping Duty Administrative Review and Notice of Final Results of Antidumping Duty Changed Circumstances Review: Certain Softwood Lumber Products from Canada, 69 FR 75921-01 (December 20, 2004) (“Final Results”). On December 20 and 21, 2004 the petitioner,¹ the Abitibi Group,² Tembec Inc. (Tembec), Tolko Industries Ltd. (Tolko), West Fraser Mills (West Fraser), Weyerhaeuser Company (Weyerhaeuser), Leggett & Platt,³ Ontario Forest Product Industries Association (OFIA),⁴ and Treeline Forest Products filed timely ministerial error allegations pursuant to 19 CFR 351.224(c)(2). On December 27, we received rebuttal comments from the petitioner, Canfor Corporation,⁵ Slocan Forest Products Ltd., Weyerhaeuser, Leggett & Platt, Quebec Lumber Manufacturers Association, and its members (QLMA).

¹ The petitioner in this case is the Coalition for Fair Lumber Imports Executive Committee. We note that during the review, submissions have been made interchangeably by the petitioner itself and by the Coalition for Fair Lumber Imports, a domestic interested party. For ease of reference, we will use the term “petitioner” to refer to submissions by either, although we recognize that the Coalition for Fair Lumber Imports is not the actual petitioner.

² Includes Abitibi-Consolidated Inc., Abitibi-Consolidated Company of Canada, Produits Forestiers Petits Paris Inc., Produits Forestiers La Tuque Inc. and Societe en Commandite Opitciwan.

³ Includes Leggett & Platt Ltd., Leggett & Platt (BC), Ltd. Leggett & Platt, Inc., and Pleasant Valley Remanufacturing Ltd.

⁴ Includes OFIA members. For a full list of OFIA members, see letter from OFIA to the Department dated December 20, 2004.

⁵ Filing on behalf of itself, Abitibi, Buchanan Lumber Sales, Inc., Tembec Inc., the OFIA (and its members), the Ontario Lumber Manufactures Association (and its members), Apex Forest Products Inc., Aspen Planers Ltd., Downie Timber, Ltd., Federated Co-operative Limited, Gorman Bros. Lumber Ltd., Haidai Forest Products Ltd., Manning Diversified Forest Products Limited, Mill & Timber Products Ltd., North Enderby Timber Ltd., Selkirk Specialty Wood Ltd., Tyee Timber Products Ltd., West Fraser, and Weyerhaeuser.

Scope of the Order

The products covered by this order are softwood lumber, flooring and siding (softwood lumber products). Softwood lumber products include all products classified under headings 4407.1000, 4409.1010, 4409.1090, and 4409.1020, respectively, of the Harmonized Tariff Schedule of the United States (HTSUS), and any softwood lumber, flooring and siding described below. These softwood lumber products include:

(1) Coniferous wood, sawn or chipped lengthwise, sliced or peeled, whether or not planed, sanded or finger-jointed, of a thickness exceeding six millimeters;

(2) Coniferous wood siding (including strips and friezes for parquet flooring, not assembled) continuously shaped (tongued, grooved, rabbeted, chamfered, v-jointed, beaded, molded, rounded or the like) along any of its edges or faces, whether or not planed, sanded or finger-jointed;

(3) Other coniferous wood (including strips and friezes for parquet flooring, not assembled) continuously shaped (tongued, grooved, rabbeted, chamfered, v-jointed, beaded, molded, rounded or the like) along any of its edges or faces (other than wood moldings and wood dowel rods) whether or not planed, sanded or finger-jointed; and

(4) Coniferous wood flooring (including strips and friezes for parquet flooring, not assembled) continuously shaped (tongued, grooved, rabbeted, chamfered, v-jointed, beaded, molded, rounded or the like) along any of its edges or faces, whether or not planed, sanded or finger-jointed.

Although the HTSUS subheadings are provided for convenience and customs purposes, the written description of the merchandise under review is dispositive. Preliminary scope exclusions and clarifications were published in three separate Federal Register notices.

Softwood lumber products excluded from the scope:

Trusses and truss kits, properly classified under HTSUS 4418.90.

I-joist beams.

Assembled box spring frames.

Pallets and pallet kits, properly classified under HTSUS 4415.20.

Garage doors.

Edge-glued wood, properly classified under HTSUS 4421.90.97.40 (formerly HTSUS 4421.90.98.40).

Properly classified complete door frames.

Properly classified complete window frames.

Properly classified furniture.

Softwood lumber products excluded from the scope only if they meet certain requirements:

Stringers (pallet components used for runners): If they have at least two notches on the side, positioned at equal distance from the center, to properly accommodate forklift blades, properly classified under HTSUS 4421.90.97.40 (formerly HTSUS 4421.90.98.40).

Box-spring frame kits: If they contain the following wooden pieces—two side rails, two end (or top) rails and varying numbers of slats. The side rails and the end rails should be radius-cut at both ends. The kits should be individually packaged, they should contain the exact number of wooden components needed to make a particular box spring frame, with no further processing required. None of the components exceeds 1″ in actual thickness or 83″ in length.

Radius-cut box-spring-frame components, not exceeding 1″ in actual thickness or 83″ in length, ready for assembly without further processing. The radius cuts must be present on both ends of the boards and must be substantial cuts so as to completely round one corner.

Fence pickets requiring no further processing and properly classified under HTSUS 4421.90.70, 1″ or less in actual thickness, up to 8″ wide, 6′ or less in length, and have finials or decorative cuttings that clearly identify them as fence pickets. In the case of dog-eared fence pickets, the corners of the boards should be cut off so as to remove pieces of wood in the shape of isosceles right angle triangles with sides measuring ¾ inch or more.

U.S. origin lumber shipped to Canada for minor processing and imported into the United States, is excluded from the scope of this order if the following conditions are met: (1) The processing occurring in Canada is limited to kiln-drying, planing to create smooth-to-size board, and sanding, and (2) the importer establishes to U.S. Customs and Border Protection's (CBP) satisfaction that the lumber is of U.S. origin.⁶

⁶ For further clarification pertaining to this exclusion, see the additional language concluding the scope description below.

Softwood lumber products contained in single family home packages or kits,⁷ regardless of tariff classification, are excluded from the scope of the orders if the following criteria are met:

⁷ To ensure administrability, we clarified the language of this exclusion to require an importer certification and to permit single or multiple entries on multiple days, as well as instructing importers to retain and make available for inspection specific documentation in support of each entry.

1. The imported home package or kit constitutes a full package of the number of wooden pieces specified in the plan, design or blueprint necessary to produce a home of at least 700 square feet produced to a specified plan, design or blueprint;

2. The package or kit must contain all necessary internal and external doors and windows, nails, screws, glue, subfloor, sheathing, beams, posts, connectors and, if included in purchase contract, decking, trim, drywall and roof shingles specified in the plan, design or blueprint;

3. Prior to importation, the package or kit must be sold to a retailer of complete home packages or kits pursuant to a valid purchase contract referencing the particular home design plan or blueprint, and signed by a customer not affiliated with the importer;

4. The whole package must be imported under a single consolidated entry when permitted by CBP, whether or not on a single or multiple trucks, rail cars or other vehicles, which shall be on the same day except when the home is over 2,000 square feet;

5. The following documentation must be included with the entry documents:

A copy of the appropriate home design, plan, or blueprint matching the entry;

A purchase contract from a retailer of home kits or packages signed by a customer not affiliated with the importer;

A listing of inventory of all parts of the package or kit being entered that conforms to the home design package being entered;

In the case of multiple shipments on the same contract, all items listed immediately above which are included in the present shipment shall be identified as well.

We have determined that the excluded products listed above are outside the scope of this order provided the specified conditions are met. Lumber products that CBP may classify as stringers, radius cut box-spring-frame components, and fence pickets, not conforming to the above requirements, as well as truss components, pallet components, and door and window frame parts, are covered under the scope of this order and may be classified under HTSUS subheadings 4418.90.40.90, 4421.90.70.40, and 4421.90.98.40. Due to changes in the 2002 HTSUS whereby subheading 4418.90.40.90 and 4421.90.98.40 were changed to 4418.90.45.90 and 4421.90.97.40, respectively, we are adding these subheadings as well.

In addition, this scope language has been further clarified to now specify that all softwood lumber products entered from Canada claiming non-subject status based on U.S. country of origin will be treated as non-subject U.S.-origin merchandise under the antidumping and countervailing duty orders, provided that these softwood lumber products meet the following condition: upon entry, the importer, exporter, Canadian processor and/or original U.S. producer establish to CBP's satisfaction that the softwood lumber entered and documented as U.S.-origin softwood lumber was first produced in the United States as a lumber product satisfying the physical parameters of the softwood lumber scope.⁸ The presumption of non-subject status can, however, be rebutted by evidence demonstrating that the merchandise was substantially transformed in Canada.

⁸ See the scope clarification message (3034202), dated February 3, 2003, to CBP, regarding treatment of U.S.-origin lumber on file in the Central Records Unit, Room B-099 of the main Commerce Building.

Amended Final Results

In accordance with section 751(h) of the Act, we have determined that ministerial errors were made in our Final Results margin calculations. For a detailed discussion of the ministerial error allegations and the Department's analysis, see Memorandum to Barbara Tillman, “Antidumping Duty Administrative Review of Certain Softwood Lumber Products from Canada; Allegation of Ministerial Errors,” dated January 14 , 2005, which is on file in the Central Records Unit (“CRU”), room B-099 of the main Department building.

In accordance with section 751(h) of the Act and 19 CFR 351.224(e), we are amending the final results of the antidumping duty administrative review of lumber from Canada to correct these ministerial errors.

The revised weighted-average dumping margins for the period May 22, 2002, through April 30, 2003, are listed below:

Producer/exporter | Original weighted-average margin (percentage) | Amended weighted-average margin (percentage)
Abitibi (and its affiliates Produits Forestiers Petit Paris Inc., Produits Forestiers La Tuque Inc., and Societe En Commandite Scierie Opticiwan) | 3.12 | 3.12
Buchanan (and its affiliates Atikokan Forest Products Ltd., Long Lake Forest Products Inc., Nakina Forest Products Limited,⁹ Buchanan Distribution Inc., Buchanan Forest Products Ltd., Great West Timber Ltd., Dubreuil Forest Products Ltd., Northern Sawmills Inc., McKenzie Forest Products Inc., Buchanan Northern Hardwoods Inc., Northern Wood, and Solid Wood Products Inc.) | 4.76 | 4.76
Canfor ¹⁰ (and its affiliates Canadian Forest Products, Ltd., Lakeland Mills Ltd., The Pas Lumber Company Ltd., Howe Sound Pulp and Paper Limited Partnership, and Skeena Cellulose) | 1.83 | 1.83
Tembec (and its affiliates Marks Lumber Ltd., Excel Forest Products, Les Industries Davidson Inc., Produits Forestiers Temrex Limited Partnership) ¹¹ | 10.59 | 9.10
Tolko (and its affiliates Gilbert Smith Forest Products Ltd., Compwood Products Ltd., and Pinnacle Wood Products Ltd.) | 3.85 | 3.72
West Fraser (and its affiliates West Fraser Forest Products Inc., and Seehta Forest Products Ltd.) | 0.92 | 0.91
Weyerhaeuser (and its affiliates Weyerhaeuser Saskatchewan Ltd. and Monterra Lumber Mills Limited) ¹² | 8.70 | 7.99
Review-Specific Average Rate Applicable to the Following Companies:
2 by 4 Lumber Sales Ltd.; 440 Services Ltd.; 582912 B.C. Ltd. (DBA Paragon Wood Products, Lumby); AFA Forest Products Inc.; A.J. Forest Products Ltd.; A.L. Stuckless & Sons Limited; Abitibi-LP Engineered Wood, Inc.; Age Cedar Products; Alberta Spruce Industries Ltd.; Allmac Lumber Sales Ltd.; Alpa Lumber Mills Inc.; American Bayridge Corporation; Apex Forest Products Inc.; Apollo Forest Products Ltd.; Aquila Cedar Products Ltd.; Arbutus Manufacturing Ltd.; Armand Duhamel et fils Inc.; Ashley Colter (1961) Limited; Aspen Planers Ltd.; Associated Cedar Products; Atco Lumber Ltd.; AWL Forest Products; Bakerview Forest Products Inc.; Barrett Lumber Company Limited; Barrette-Chapais Ltee; Barry Maedel Woods & Timber; Beaubois Coaticook Inc.; Blanchette et Blanchette Inc.; Bloomfield Lumber Limited; Bois Cobodex (1995) Inc.; Bois Daaquam Inc.; Bois d'oeuvre Cedrico Inc.; Bois Neos Inc.; Bois Omega Ltee; Bois Rocam Inc.; Boisaco Inc.; Boucher Forest Products Ltd.; Bowater Canadian Forest Products Incorporated; Bridgeside Higa Forest Industries Ltd.; Brittania Lumber Company Limited; Brouwer Excavating Ltd.; Brunswick Valley Lumber Inc.; Buchanan Lumber; Burrows Lumber Inc.; BW Creative Wood; Byrnexco Inc.; C.E. Harrison & Sons Ltd.; Caledon Log Homes (FEWO); Caledonia Forest Products Ltd.; Cambie Cedar Products Ltd.; Canadian Lumber Company Ltd.; Cando Contracting Ltd.; Canex International Lumber Sales Ltd.; Canwel Distribution Ltd.; Canyon Lumber Company Ltd.; Cardinal Lumber Manufacturing & Sales Inc.; Carrier Forest Products Ltd.; Carrier Lumber Ltd.; Carson Lake Lumber; Cedarland Forest Products Ltd.; Central Cedar; Centurion Lumber Manufacturing (1983) Ltd.; Chaleur Sawmills; Cheminis Lumber Inc.; Cheslatta Forest Products Ltd.; Chisholm's (Roslin) Ltd.; Choicewood Products Inc.; City Lumber Sales & Services Ltd.; Clair Industrial Development Corp. Ltd. (Waska); Clareco Industries Ltd.; Claude Forget Inc.; Clearwood Industries Ltd.; Coast Clear Wood Ltd.; Colonial Fence Mfg. Ltd.; Comeau Lumber Ltd.; Commonwealth Plywood Co. Ltd.; Cooper Creek Cedar Ltd.; Cooperative Forestiere Laterriere; Cottle's Island Lumber Co. Ltd.; Coventry Forest Products Ltd.; Cowichan Lumber Ltd.; Crystal Forest Industries Ltd.; Curley's Cedar Post & Rail; Cushman Lumber Co. Inc.; D.S. McFall Holding Ltd.; Dakeryn Industries Ltd.; Deep Cove Forest Products; Delco Forest Products Ltd.; Delta Cedar Products Ltd.; Devlin Timber Company (1992) Limited; Devon Lumber Co. Ltd.; Doman Forest Products Limited; Doman Industries Limited; Doman Western Lumber Ltd.; Domexport Inc.; Domtar Inc.; Downie Timber Ltd.; Duluth Timber Company; Dunkley Lumber Ltd.; E. Tremblay et fils Ltee; E.R. Probyn Export Ltd.; Eacan Timber Canada Ltd.; Eacan Timber Limited; Eacan Timber USA Ltd.; East Fraser Fiber Co. Ltd.; Eastwood Forest Products Inc.; Edwin Blaikie Lumber Ltd.; Elmira Wood Products Limited; Elmsdale Lumber Company Limited; Evergreen Empire Mills Incorporated; EW Marketing; F.L. Bodogh Lumber Co. Ltd.; Falcon Lumber Limited; Faulkener Wood Specialities Ltd.; Fawcett Lumber; Federated Co-operative Limited; Finmac Lumber Limited; Fontaine Inc. (dba J.A. Fontaine et fils Incorporee); Fraser Inc.; Fraser Pacific Forest Products Inc.; Fraser Pacific Lumber Company; Fraser Pulp Chips Ltd.; Fraserview Cedar Products Ltd.; Frontier Mills Inc.; Georgetown Timber Limited; Georgian Bay Forest Products Ltd.; Gestofor Inc.; Gogama Forest Products; Goldwood Industries Ltd.; Goodfellow Inc.; Gorman Bros. Lumber Ltd.; Great Lakes MSR Lumber Ltd.; Greenwood Forest Products (1983) Ltd.; Groupe Cedrico Inc.; H.A. Fawcett & Son Limited; H.J. Crabbe & Sons Ltd.; Haida Forest Products Ltd.; Hainesville Sawmill Ltd.; Harry Freeman & Son Ltd.; Hefler Forest Products Ltd.; Hi-Knoll Cedar Inc.; Hilmoe Forest Products Ltd.; Hoeg Bros. Lumber Ltd.; Holdright Lumber Products Ltd.; Hudson Mitchell & Sons Lumber Inc.; Hughes Lumber Specialities Inc.; Hyak Speciality Wood; Industrial Wood Specialities; Industries Maibec Inc.; Industries Perron Inc.; Interior Joinery Ltd.; International Forest Products Limited (Interfor); Isidore Roy Limited; Ivis Wood Products; J.A. Turner & Sons (1987) Limited; J.D. Irving, Limited; Jackpine Engineered Wood Products Inc.; Jackpine Forest Products Ltd.; Jamestown Lumber Company Limited; Jasco Forest Products Ltd.; Jointfor (3207021) Canada, Inc.; Julimar Lumber Co. Limited; Kenora Forest Products Limited; Kent Trusses Ltd.; Kenwood Lumber Ltd.; Kispiox Forest Products; Kruger, Inc.; Lakeburn Lumber Limited; Landmark Structural Lumber; Landmark Truss & Lumber Inc.; Langevin Forest Products, Inc.; Langley Timber Company Ltd.; Lawson Lumber Company Ltd.; Lazy S Lumber; Lecours Lumber Company; Ledwidge Lumber Co. Ltd.; Leggett & Platt; LeggettWood; Les Bois d'Oeuvre Beaudoin & Gautheir Inc.; Les Bois Lemelin Inc.; Les Bois S&P Grondin Inc.; Les Produits Forestiers D.G. Ltee; Les Produits Forestiers Dube Inc.; Les Produits Forestiers F.B.M. Inc.; Les Produits Forestiers Maxibois Inc.; Les Produits Forestiers Miradas Inc.; Les Produits Forestiers Portbec Ltee; Les Scieries du Lac St Jean Inc.; Leslie Forest Products Ltd.; Lignum Ltd.; Lindsay Lumber Ltd.; Liskeard Lumber Ltd.; Littles Lumber Ltd.; Lonestar Lumber Inc.; Louisiana Pacific Corporation; LP Canada Ltd.; LP Engineered Wood Products Ltd.; Lulumco Inc.; Lyle Forest Products Ltd.; M&G Higgins Lumber Ltd.; M.F. Bernard Inc.; M.L. Wilkins & Son Ltd.; MacTara Limited; Manitou Forest Products Ltd.; Maple Creek Saw Mills Inc.; Marcel Lauzon Inc.; Marwood Ltd.; Mary's River Lumber; Materiaux Blanchette Inc.; Max Meilleur & Fils Ltee; McCorquindale Holdings Ltd.; McNutt Lumber Company Ltd.; Mercury Manufacturing Inc.; Meunier Lumber Company Ltd.; Mid America Lumber; Midland Transport Limited; Midway Lumber Mills Ltd.; Mill & Timber Products Ltd.; Millar Western Forest Products Ltd.; Millco Wood Products Ltd.; Mobilier Rustique (Beauce)
Inc.; Monterra Lumber Mills Limited; Mountain View Specialty Products & Reload Inc.; Murray A. Reeves Forestry Limited; New West Lumber Ltd.; N.F. Douglas Lumber Limited; Nechako Lumber Co. Ltd.; Newcastle Lumber Co. Inc.; Nexfor Inc.; Nicholson and Cates Limited; Nickel Lake Lumber; Norbord Industries Inc.; North American Forest Products Ltd.; North Enderby Timber Ltd.; North Mitchell Lumber Co. Ltd.; North Shore Timber Ltd.; North Star Wholesale Lumber Ltd.; Northchip Ltd.; Northland Forest Products; Olav Haavaldsrud Timber Company; Olympic Industries Inc.; Optibois Inc.; P.A. Lumber & Planing Mill; Pacific Lumber Remanufacturing Inc.; Pacific Northern Rail Contractors Corp.; Pacific Western Woodworks Ltd.; Pallan Timber Products (2000) Ltd.; Palliser Lumber Sales Ltd.; Pan West Wood Products Ltd.; Paragon Ventures Ltd. (DBA Paragon Wood Products, Grindrod); Parallel Wood Products Ltd.; Pastway Planing Limited; Pat Power Forest Products Corp.; Paul Vallee Inc.; Peak Forest Products Ltd.; Peter Thomson & Sons Inc.; Phoenix Forest Products Inc.; Pope & Talbot Inc.; Porcupine Wood Products Ltd.; Portelance Lumber Capreol Ltd.; Power Wood Corp.; Precibois Inc.; Preparabois Inc.; Prime Lumber Limited; Pro Lumber Inc.; Produits Forestiers Labrieville; Quadra Wood Products Ltd.; R. Fryer Forest Products Ltd.; Raintree Lumber Specialties Ltd.; Ramco Lumber Ltd.; Redtree Cedar Products Ltd.; Redwood Value Added Products Inc.; Ridgewood Forest Products Ltd.; Rielly Industrial Lumber, Inc.; Riverside Forest Products Ltd.; Rojac Cedar Products Inc.; Rojac Enterprises Inc.; Rouck Bros. Sawmill Ltd.; Russell White Lumber Limited; Sauder Industries Limited; Sawn Wood Products; Schols Cedar Products; Scierie Adrien Arseneault Ltee; Scierie Beauchesne et Dube Inc.; Scierie Gaston Morin Inc.; Scierie La Patrie, Inc.; Scierie Landrienne Inc.; Scierie Lapointe & Roy Ltee; Scierie Leduc; Scierie Nord-Sud Inc.; Scierie West Brome Inc.; Scott Lumber Ltd.; Selkirk Speciality Wood Ltd.; Shawood Lumber Inc.; Sigurdson Bros. Logging Co. Ltd.; Silvermere Forest Products Inc.; Sinclar Enterprises Ltd.¹³; Skana Forest Products Ltd.; South-East Forest Products Ltd.; South River Planing Mills Inc.; Spray Lake Sawmills (1980) Ltd.; Spruce Forest Products Ltd.; Spruce Products Limited; St. Anthony Lathing Mills Ltd.; St. Jean Lumber (1984) Ltd.; Standard Building Products Ltd.; Still Creek Forest Products Ltd.; Stuart Lake Lumber Co. Ltd.; Stuart Lake Marketing Company; Sunbury Cedar Sales Ltd.; Suncoast Lumber & Milling; Sundance Forest Industries; SWP Industries Inc.; Sylvanex Lumber Products Inc.; T.P. Downey & Sons Ltd.; Taiga Forest Products; Tarpin Lumber Incorporated; Teal-Jones Group; Teeda Corp; Terminal Forest Products Ltd.; T.F. Specialty Sawmill; TimberWorld Forest Products Inc.; T'loh Forest Products Limited Partnership; Treeline Wood Products Ltd.; Triad Forest Products Ltd.; Twin Rivers Cedar Products Ltd.; Tyee Timber Products Ltd.; United Wood Frames Inc.; Usine Sartigan Inc.; Vancouver Specialty Cedar Products Ltd.; Vanderhoof Specialty Wood Products; Vandermeer Forest Products (Canada) Ltd.; Vanderwell Contractors (1971) Ltd.; Vanport Canada Co.; Vernon Kiln & Millwork Ltd.; Visscher Lumber Inc.; W.C. Edwards Lumber; W.I. Woodtone Industries Inc.; Welco Lumber Corporation; Weldwood of Canada Limited; Wentworth Lumber Ltd.; Wernham Forest Products; West Bay Forest Products & Manufacturing Ltd.; West Can Rail Ltd.; West Chilcotin Forest Products Ltd.; West Hastings Lumber Products; Western Cleanwood Preservers Ltd.; Western Commercial Millwork Inc.; Western Wood Preservers Ltd.; Westmark Products Ltd.; Weston Forest Corp.; West-Wood Industries Ltd.; White Spruce Forest Products Ltd.; Wilkerson Forest Products Ltd.; Williams Brothers Limited; Winnipeg Forest Products, Inc.; Woodko Enterprises Ltd.; Woodland Forest Products Ltd.; Woodline Forest Products Ltd.; Woodtone Industries, Inc.; Wynndel Box & Lumber Co. Ltd. | 4.03 | 3.78
⁹ We note that Nakina Forest Products Limited is a division of Long Lake Forest Products, Inc., an affiliate of Buchanan Lumber Sales.
¹⁰ As stated in the final results of changed circumstances review, Canfor's weighted-average margin is based upon a weighted-average of Canfor's and Slocan's respective cash deposit rates prior to the merger. See Memorandum from Daniel O'Brien, International Trade Compliance Analyst, to The File, Re: Cash Deposit Rate for Canfor Corporation (December 13, 2004). We also note that, during the POR, Sinclar Enterprises Ltd. (Sinclar) acted as an affiliated reseller for Lakeland, an affiliate of Canfor. In this review, we reviewed the sales of Canfor and its affiliates; therefore, Canfor's weighted-average margin applies to all sales of subject merchandise produced by any member of the Canfor Group and sold by Sinclar. As Sinclar also separately requested a review, any sales of subject merchandise produced by another manufacturer and sold by Sinclar will receive the “Review-Specific All Others” rate. Finally, we note that Canadian Forest Products, Ltd. is a wholly owned subsidiary of Canfor and will receive Canfor's weighted-average margin.
¹¹ We note that Produits Forestiers Temrex Limited Partnership is the same entity as the company Produits Forestiers Temrex Usine St. Alphonse, Inc. included in the initiation notice. See Notice of Initiation of Antidumping Duty Administrative Review, 68 FR 39059 (July 1, 2003).
¹² Based on the final results of the changed circumstances review, Monterra shall receive Weyerhaeuser's weighted-average margin until December 23, 2002; thereafter, the company will be subject to the review-specific average rate. See Notice of Final Results of Antidumping Duty Changed Circumstances Review, 68 FR 54891 (September 19, 2003).
¹³ See footnote 7.

Cash Deposit Rates

The following antidumping duty deposits will be required on all shipments of certain softwood lumber products from Canada entered, or withdrawn from warehouse, for consumption, effective on or after the publication date of the final results of this administrative review, as provided by section 751(a)(1) of the Act: (1) The cash deposit rate for the reviewed company will be the rate listed above; (2) for previously reviewed or investigated companies not listed above, the cash deposit rate will continue to be the company-specific rate published for the most recent period; (3) if the exporter is not a firm covered in this review, the previous review, or the original investigation, but the manufacturer is, the cash deposit rate will be the rate established for the most recent period for the manufacturer of the merchandise; and (4) if neither the exporter nor the manufacturer is a firm covered in this or any previous reviews, the cash deposit rate will be 8.43 percent, the “All Others” rate established in the less-than-fair-value investigation. These cash deposit requirements shall remain in effect until publication of the final results of the next administrative review.

Assessment Rates

In accordance with section 19 CFR 356.8(a), the Department will issue appropriate assessment instructions directly to CBP on or after 41 days following the publication of these amended final results of review to effect the Final Results and these amended final results.

We are issuing and publishing this determination and notice in accordance with sections 751(a)(1), 751(h) and 771(i)(1) of the Act.

Dated: January 14, 2005.
Barbara E. Tillman,
Acting Assistant Secretary for Import Administration.

[FR Doc. E5-251 Filed 1-21-05; 8:45 am]

BILLING CODE 3510-DS-P